GENERAL SERVICES ADMINISTRATION

[Notice-MG-2017-04; Docket No. 2017-0002; Sequence No. 27]

Office of Federal High-Performance Buildings; Green Building Advisory Committee; Notification of Upcoming Teleconference

AGENCY: Office of Government-wide Policy (OGP), General Services Administration (GSA).

ACTION: Meeting notice.

SUMMARY: Notice of this teleconference is being provided according to the requirements of the Federal Advisory Committee Act. This notice provides the schedule for a teleconference/web meeting of the Advisory Committee, which is open for the public to listen to and observe. Interested individuals must register to attend as instructed below under SUPPLEMENTARY INFORMATION.

DATES: The Committee will hold a teleconference/web meeting on Monday, February 5, 2018, from 2:00 p.m., Eastern Standard Time (EST), to 4:00 p.m., EST.

FOR FURTHER INFORMATION CONTACT: Mr. Ken Sandler, Designated Federal Officer, Office of Federal High-Performance Buildings, OGP, GSA, 1800 F Street NW, Washington, DC, 20405, telephone 202-219-1121 (note: this is not a toll-free number). Additional information about the Committee is available on-line at http://www.gsa.gov/gbac.

SUPPLEMENTARY INFORMATION: Procedures for Attendance: Contact Mr. Ken Sandler at ken.sandler@gsa.gov to register to listen in to the teleconference. To attend the teleconference, submit your full name, organization, email address, and phone number. Requests to listen in to the calls must be received by Monday, January 29, 2018, by 5:00 p.m., EST (GSA will be unable to provide technical assistance to any listener experiencing technical difficulties. Testing access to the web meeting site in advance of calls is recommended).

Background: The Administrator of GSA established the Committee on June 20, 2011 (Federal Register/Vol. 76, No. 118) pursuant to Section 494 of the Energy Independence and Security Act of 2007 (EISA, 42 U.S.C. 17123). Under this authority, the Committee provides independent policy advice and recommendations to GSA to improve federal buildings (assets, operations, use, and resilience) to enhance human health and performance, and safeguard social, economic, and environmental security. Completed Committee recommendations, including recent Advice Letters on health and wellness, high performance building adoption, and power purchase agreements, are posted at: https://www.gsa.gov/about-us/organization/office-of-governmentwide-policy/office-of-federal-highperformance-buildings/green-building-advisory-committee/advice-letters-and-resolutions.

February 5, 2018 Committee Teleconference/Web Meeting Agenda:

• Introductions

• Safeguarding GSA Assets

• Building and Grid Integration & Resilience

• Urban Resilience

• Discussion & Next Steps

A detailed agenda, relevant background information, and updates for the teleconference will be posted on GSA's website at http://www.gsa.gov/gbac.

Kevin Kampschroer,
Federal Director, Office of Federal High-Performance Buildings, General Services Administration.

[FR Doc. 2018-00040 Filed 1-4-18; 8:45 am]

BILLING CODE 6820-14-P